DEPARTMENT OF THE INTERIOR

Bureau of Reclamation

Agency Information Collection Activities; Proposed Revisions to a Currently Approved Information Collection; Comment Request

AGENCY: Bureau of Reclamation, Interior.

ACTION: Notice of renewal of a currently approved collection (OMB No. 1006-0001).

SUMMARY: In accordance with the Paperwork Reduction Act of 1995 (44 U.S.C. 3501 et seq.), this notice announces the following Information Collection Request (ICR) has been forwarded to the Office of Management and Budget (OMB) for review and approval: Crop Acreage and Yields and Water Distribution (Water User Crop Census Report [Form 7-332], and Crop and Water Data [Form 7-2045]), OMB Control Number: 1006-0001. The ICR describes the nature of the information collection and its expected cost burden.

DATES: Your written comments must be received on or before March 20, 2006.

ADDRESSES: You may send comments regarding the burden estimate, or any other aspect of the information collection, including suggestions for reducing the burden, to the Desk Officer for the Department of the Interior at the Office of Management and Budget, Office of Information and Regulatory Affairs, via facsimile to (202) 395-6566 or e-mail to OIRA_DOCKET@omb.eop.gov. A copy of your comments should also be directed to the Bureau of Reclamation, Attention: D-5300, PO Box 25007, Denver, CO 80225-0007. You may request copies of the proposed forms by writing to the above address or by contacting Stephanie McPhee at: (303) 445-2897.

FOR FURTHER INFORMATION CONTACT: For further information or a copy of the proposed forms contact Stephanie McPhee at: (303) 445-2897.

SUPPLEMENTARY INFORMATION: We are currently in the process of collaborating with the U.S. Department of Agriculture (USDA) to develop a way to utilize USDA's existing information collection(s) to gather the data required for our purposes. However, this collaboration effort will not be completed before the expiration of the crop census forms in this information collection. Consequently, this information collection is being renewed as an interim measure to ensure a means exists for collection of the crop data necessary to perform our functions. We anticipate that the collaboration process with the USDA will be complete before further renewal of this information collection is required.

Title: Crop Acreage and Yields and Water Distribution.

Abstract: The annual crop census is taken on certain Reclamation projects primarily for use as a tool in administering, managing, and evaluating various aspects of the Federal reclamation program. The census is used to assist in the administration of repayment and water service contracts, which are used to repay the irrigators' obligation to the Federal government. The census will provide data to facilitate the required 5-year review of ability-to-pay analysis, which is being incorporated into new repayment and water service contracts. The basis for these reviews is an audit by the Office of the Inspector General, Department of the Interior.

Data from the census are utilized to determine class 1 equivalency computation; i.e., determining the number of acres of class 2 and class 3 land that are required to be equivalent in productivity to class 1 land.

In recent years, the census has provided data which are used to administer international trade agreements, such as the North American Free Trade Agreement. Data from the census are also used by the Office of the Inspector General, Government Accountability Office, and the Congressional Research Service to independently evaluate our program and to estimate the impacts of proposed legislation. These data are supplied to other Federal and State agencies to evaluate the program and provide data for research.

The required 60-day comment period was initiated by a notice published in the Federal Register on September 19, 2005 (70 FR 54960, Sept. 19, 2005). No comments were received in response to the 60-day comment period.

Frequency: Annually.

Respondents: Irrigators and water user entities in the 17 Western states who receive irrigation water service from Bureau of Reclamation facilities. Also included are entities who receive other water services, such as municipal and industrial water through Bureau of Reclamation facilities.

Estimated Total Number of Respondents: 1,325.

Estimated Number of Responses per Respondent: 1.0.

Estimated Total Number of Annual Responses: 1,325.

Estimated Total Annual Burden on Respondents: 2,075 hours.

Form No. | Burden estimate per form (in hours) | Number of respondents | Annual number of responses | Annual burden on respondents (in hours)
Water User Crop Census Report (Form 7-332) | 0.25 | 1,100 | 1,100 | 275
Crop and Water Data (Form 7-2045) | 8.00 | 225 | 225 | 1,800
Total: Estimate of Burden for Each Form |  | 1,325 | 1,325 | 2,075

Comments

Comments are invited on:

(a) Whether the proposed collection of information is necessary for the proper performance of our functions, including whether the information will have practical use;

(b) The accuracy of our burden estimate for the proposed collection of information, including the validity of the methodology and assumptions used;

(c) Ways to enhance the quality, usefulness, and clarity of the information to be collected; and

(d) Ways to minimize the burden of the collection of information on respondents.

An agency may not conduct or sponsor, and a person is not required to respond to a collection of information unless it displays a currently valid OMB control number. Reclamation will display a valid OMB control number on the crop census forms.

OMB has up to 60 days to approve or disapprove this information collection, but may respond after 30 days; therefore, public comment should be submitted to OMB within 30 days in order to assure maximum consideration.

Department of the Interior practice is to make comments, including names and home addresses of respondents, available for public review. Individual respondents may request that we withhold their home address from public disclosure, which we will honor to the extent allowable by law. There also may be circumstances in which we would withhold a respondent's identity from public disclosure, as allowable by law. If you wish us to withhold your name and/or address, you must state this prominently at the beginning of your comment. We will make all submissions from organizations or businesses, and from individuals identifying themselves as representatives or officials of organizations or businesses, available for public disclosure in their entirety.

Roseann Gonzales,
Director, Office of Program and Policy Services, Denver Office.

[FR Doc. E6-2322 Filed 2-16-06; 8:45 am]

BILLING CODE 4310-MN-P